DEPARTMENT OF COMMERCE

International Trade Administration

Mission Statement; Agricultural Equipment and Technology Mission, May 25-26, 2010

AGENCY: International Trade Administration, Department of Commerce.

ACTION: Amendment.

Mission Description

The United States Department of Commerce, International Trade Administration, U.S. and Foreign Commercial Service (CS) is organizing an Agricultural Equipment and Technology Trade Mission to Abuja, Nigeria, May 25-26, 2010.

The Agricultural Equipment and Technology Mission is intended to include representatives from a variety of U.S. agricultural industry manufacturers and service providers. The mission will introduce the U.S. suppliers to end-users and prospective partners whose needs and capabilities are targeted to each U.S. participant's strengths. The mission will include one-on-one appointments and briefings in Abuja, Nigeria's capital, which is centrally located with respect to the country's agricultural regions. Trade mission participants will have the opportunity to interact extensively with private and public sector organizations in the agricultural industry to discuss industry developments, opportunities, and partnerships.

Commercial Setting

Nigeria is the United States' largest trading partner in sub-Saharan Africa, and the 17th largest trading partner in the world. With over $US4.2 billion in U.S. exports to Nigeria in 2008, the country ranks as the 50th-largest export market for U.S. goods. The United States is the largest foreign investor in Nigeria, with the bulk of investment concentrated in the petroleum sector, but also in consumer goods manufacturing.

Once the leading agricultural exporter in western and central Africa, Nigeria's agricultural sector suffered from neglect as the country's petroleum sector came to dominate economic activity and investment in recent decades. While oil revenues grew, local agricultural production dwindled, giving rise to a reliance on massive food imports. In 2008 alone, Nigeria imported an estimated $4 billion worth of food, including $US930 million in grain from the United States. Food imports likely will increase in the future in order to sustain Nigeria's population of over 140 million, which is growing at more than 2.5% per annum.

Faced with increasing food costs and potential food shortages, the Nigerian federal government initiated a program intended to revitalize its agricultural sector and encourage large scale commercial farming to create food security and employment. To this end, it set goals that include the rehabilitation of existing grain silos, construction of new grain silos to upgrade national strategic grain storage capacity to one million tons; procurement of over 10,000 new farm tractors; rehabilitation and installation of irrigation systems; supply of over 400,000 metric tons of agricultural fertilizers; and the earmarking of a 200 billion naira (about $1.4 billion) in agricultural development funds for farmers to support these procurements. Many states in Nigeria have also started various agricultural projects that stand to boost demand for agricultural inputs and farm equipment to support mechanized farming. Many of Nigeria's farming activities take place in the country's northern region. Abuja has been selected to host the trade mission due to its close proximity to the northern states and the fact that all of the nation's federal departments and ministries are situated there. The city ranks among the country's safest and most organized in terms of infrastructure, and it is a major center of national and international trade.

Mission Goals

The goal of the Agricultural Equipment and Technology Mission is to (1) introduce U.S. companies to buyers, joint-venture partners and industry representatives; and (2) introduce U.S. companies to industry leaders and government officials in Nigeria to learn about various agricultural program opportunities.

Mission Scenario

In Abuja, the U.S. mission members will meet with officials of federal and state government agricultural agencies and ministries, and take part in business matchmaking appointments with end-users, commercial farmers, and private-sector organizations. In addition, they will attend a briefing with the U.S. Embassy staff in Nigeria. All Nigerian attendees participating in the matchmaking meetings will be pre-screened to determine their validity as well as to identify their business objectives for meeting with mission members. U.S. participants will be counseled before and after the mission by U.S. Export Assistance Center trade specialists. Participation in the mission will include the following:

• Pre-travel briefings/webinar on subjects ranging from business practices in Nigeria to security;

• Scheduled meetings with potential partners, distributors, end users, or local industry contacts in Nigeria;

• Transportation to and from the Abuja airport;

• US&FCS, industry and Nigerian government briefing;

• Networking reception and briefing.

Proposed Mission Timetable

Mission participants will be encouraged to arrive latest on Monday, May 24, since the mission program begins on Tuesday, May 25.

Tuesday, May 25 | —Market briefing.
| —One-on-one business matchmaking appointments.
| —Evening networking reception.
Wednesday, May 26 | —One-on-one business matchmaking appointments.
| —Evening reception with the U.S. Ambassador or representative.

Participation Requirements

All parties interested in participating in the Agricultural Equipment & Technology Trade Mission to Nigeria must complete and submit an application for consideration by the Department of Commerce. All applicants will be evaluated on their ability to meet certain conditions and best satisfy the selection criteria as outlined below. The mission is open on a first come first served basis to 15 qualified U.S. companies.

Fees and Expenses

After a company has been selected to participate on the mission, a payment to the Department of Commerce in the form of a participation fee is required. The participation fee will be $2,200 for large firms and $1,800 for a small or medium-sized enterprise (SME),¹ which includes one principal representative. The fee for each additional firm representative (large firm or SME) is $500. Expenses for lodging, some meals, incidentals, and travel (except for transportation to and from airports in-country, previously noted) will be the responsibility of each mission participant.

¹ An SME is defined as a firm with 500 or fewer employees or that otherwise qualifies as a small business under SBA regulations (see http://www.sba.gov/services/contractingopportunities/sizestandardstopics/index.html). Parent companies, affiliates, and subsidiaries will be considered when determining business size. The dual pricing schedule reflects the Commercial Service's user fee schedule that became effective May 1, 2008 (for additional information see http://www.export.gov/newsletter/march2008/initiatives.html).

Conditions for Participation

• An applicant must submit a completed and signed mission application and supplemental application materials, including adequate information on the company's products and/or services, primary market objectives, and goals for participation.

• Each applicant must also certify that the products and services it seeks to export through the mission are either produced in the United States, or, if not, marketed under the name of a U.S. firm and have at least fifty-one percent U.S. content.

Selection Criteria

Selection will be based on the following criteria:

• Suitability of a company's products or services to the mission's goals.

• Applicant's potential for business in Nigeria, including likelihood of exports resulting from the trade mission.

• Consistency of the applicant's goals and objectives with the stated scope of the trade mission.

Any partisan political activities (including political contributions) of an applicant are irrelevant to the selection process.

Timeframe for Recruitment and Applications

Mission recruitment will be conducted in an open and public manner, including publication in the Federal Register, posting on the Commerce Department trade mission calendar (http://www.ita.doc.gov/doctm/tmcal.html) and other Internet Web sites, press releases to general and trade media, direct mail, notices by industry trade associations and other multiplier groups, and publicity at industry meetings, symposia, conferences, and trade shows. Recruitment for the mission will begin immediately and conclude no later than March 31, 2010. Applications received after that date will be considered only if space and scheduling constraints permit.

Contacts

Project Officer for the U.S.

Timothy Cannon, U.S. Commercial Officer, U.S. Commercial Service—North Dakota, United States Department of Commerce, 51 Broadway, Suite 505, Fargo, ND 58102, Ph: (701) 239-5082/Fax (701) 237-9734. E-mail: Timothy.cannon@mail.doc.gov http://www.export.gov. http://www.buyusa.gov/northdakota

Project Officer for Nigeria

Mr. Chamberlain Eke, Commercial Specialist, U.S. Commercial Service Lagos, Ph: +234-1-4603400/Fax: +234-1-2610544, E-mail: Chamberlain.eke@mail.doc.gov http://www.buyusa.gov/nigeria

Alternate Contacts for Nigeria

Mr. Larry Farris, Commercial Counselor, U.S. Commercial Service Lagos, Ph: +234-1-4603400/Fax: +234-1-2610544, E-mail: Larry.farris@mail.doc.gov http://www.buyusa.gov/nigeria

Mr. Christopher Becker, Commercial Officer, U.S. Commercial Service Lagos, Ph: +234-1-4603400/Fax: +234-1-2610544, E-mail: Christopher.becker@mail.doc.gov http://www.buyusa.gov/nigeria

Sean Timmins,
Global Trade Programs, Commercial Service Trade Missions Program.

[FR Doc. E9-30325 Filed 12-18-09; 8:45 am]

BILLING CODE 3510-FP-P